FEDERAL RESERVE SYSTEM

12 CFR Ch. II

Semiannual Regulatory Flexibility Agenda

AGENCY: Board of Governors of the Federal Reserve System.

ACTION: Semiannual Regulatory Agenda.

SUMMARY: The Board is issuing this agenda under the Regulatory Flexibility Act and the Board's Statement of Policy Regarding Expanded Rulemaking Procedures. The Board anticipates having under consideration regulatory matters as indicated below during the period July 2025 through December 2025. The next agenda will be published in fall 2025.

DATES: Comments about the form or content of the agenda may be submitted any time during the next 6 months.

ADDRESSES: Comments should be addressed to Ann E. Misback, Secretary of the Board, Board of Governors of the Federal Reserve System, Washington, DC 20551.

FOR FURTHER INFORMATION CONTACT: A staff contact for each item is indicated with the regulatory description below.

SUPPLEMENTARY INFORMATION: The Board is publishing its spring 2025 agenda as part of the Spring 2025 Unified Agenda of Federal Regulatory and Deregulatory Actions, which is coordinated by the Office of Management and Budget under Executive Order 12866. The agenda also identifies rules the Board has selected for review under section 610(c) of the Regulatory Flexibility Act, and public comment is invited on those entries. The complete Unified Agenda will be available to the public at the following website: www.reginfo.gov. Participation by the Board in the Unified Agenda is on a voluntary basis.

The Board's agenda is divided into three sections. The first, Short Term Actions to include proposed rule stage, reports on matters the Board may consider for public comment during the next 6 months. The second section, Long-Term Actions, reports on matters where the next action is undetermined, 00/00/0000 or will occur more than 12 months after publication of the Agenda. The third section, Completed Actions, reports on matters the Board has completed, is inactive, withdrawn, or is not expected to consider further. A dot (•) preceding an entry indicates a new matter that was not a part of the Board's previous agenda.

Benjamin W. McDonough,
Deputy Secretary of the Board.

Federal Reserve System—Long-Term Actions
Sequence No. | Title | Regulation Identifier No.
306 | Source of Strength (Section 610 Review) | 7100-AE73

Federal Reserve System (FRS) | Long-Term Actions

306. SOURCE OF STRENGTH (SECTION 610 REVIEW) [7100-AE73]

Legal Authority: 12 U.S.C. 1831(o)-1

Abstract: The Board of Governors of the Federal Reserve System (Board), the Office of the Comptroller of the Currency (OCC), and the Federal Deposit Insurance Corporation (FDIC) plan to issue a proposed rule to implement section 616(d) of the Dodd-Frank Wall Street Reform and Consumer Protection Act. Section 616(d) requires that bank holding companies, savings and loan holding companies, and other companies that directly or indirectly control an insured depository institution serve as a source of strength for the insured depository institution.

Timetable:

Action | Date | FR Cite
Board Expects Further Action | To Be Determined

Regulatory Flexibility Analysis Required: Undetermined

Agency Contact: Claudia Von Pervieux, Senior Special Counsel, Federal Reserve System, Legal Division, Washington, DC 20551

Phone: 202 452-2552

Jay Schwarz, Deputy Associate General Counsel, Federal Reserve System, Legal Division, Washington, DC 20551

Phone: 202 452-2970

RIN: 7100-AE73

[FR Doc. Filed 08-18-25; 0:00 a.m.]

BILLING CODE 6210-01-P

[FR Doc. 2025-18446 Filed 9-22-25; 8:45 am]

BILLING CODE 6210-01-P